DEPARTMENT OF THE INTERIOR

Bureau of Land Management

[CO-500-1430-EU]

Notice of Realty Action: Proposed Modified Competitive Sale of Public Land, Conejos County and Competitive Sale of Public Land, Rio Grande County, CO

AGENCY: Bureau of Land Management, Interior.

ACTION: Notice of realty action.

SUMMARY: The Bureau of Land Management (BLM) hereby provides notice that it will offer one parcel of public land located in Conejos County, Colorado, and one parcel of public land located in Rio Grande County, Colorado, for sale at not less than their respective appraised fair market values. The Conejos County parcel has no legal public access and will be sold by modified competitive sale procedures with bidding limited to adjoining landowners. The Rio Grande County parcel does not have legal public access. However, a successful bidder may be able to obtain private access because of the Parcel's proximity to a county road. This parcel will be sold under competitive sale procedures and is open to any person or entity qualified to bid.

DATES: Comments regarding the proposed sales must be in writing and received by BLM not later than June 16, 2008.

Sealed bids must be received by BLM not later than 4:30 p.m. MDT, July 1, 2008.

ADDRESSES: Address all written comments regarding the proposed sales to San Luis Valley Public Lands Center, 1803 West Highway 160, Monte Vista, Colorado 81144. Comments received in electronic form such as e-mail or facsimile will not be considered.

Address all sealed bids, marked as specified below, to the San Luis Valley Public Lands Center at the address above.

FOR FURTHER INFORMATION CONTACT: Leon Montoya, Realty Specialist, at (719) 852-6219.

SUPPLEMENTARY INFORMATION: In accordance with the provisions of 43 (CFR Parts 2710 and 2720, the following described lands in Conejos and Rio Grande Counties, Colorado, are proposed to be sold pursuant to authority provided in sections 203 and 209 of the Federal Land Policy and Management Act of 1976 (FLPMA), as amended (43 U.S.C. 1713, 1719). The parcels to be sold are identified as suitable for disposal in the San Luis Resource Area Resource Management Plan (1991). Proceeds from sale of these public lands will be deposited in the Federal Land Disposal Account under section 206 of the Federal Land Transaction Facilitation Act (43 U.S.C. 2305).

Publication of this notice in the Federal Register shall segregate the lands described below from appropriation under the public land laws, including the mining laws. The segregative effect of this notice shall terminate upon issuance of patent or upon expiration 270 days from the date of publication in the Federal Register, whichever occurs first.

Modified Noncompetitive Sate

Parcel 1 (COC-70842)

New Mexico Principal Meridian, Colorado, T. 32 N., R. 10 E., Sec. 6, SE ¼.

The area described contains 160 acres. The appraised market value for Parcel 1 is $23,800. There is no public access to this parcel. There are no encumbrances of record.

Offers to purchase this parcel will be made by sealed bid only. All bids must be received at the San Luis Valley Public Lands Center, 1803 West Highway 160, Monte Vista, Colorado 81144, not later than 4:30 p.m. MDT, July 1, 2008.

Sealed bids for Parcel 1 will be opened to determine the high bid at 10 a.m. MDT, July 2, 2008, at the San Luis Valley Public Lands Center.

The outside of the bid envelope must be clearly marked on the front lower left-hand corner with “SEALED BID,” Parcel Number, and bid opening date. Bids must be for not less than the appraised market value for the parcel. Each sealed bid shall be accompanied by a certified check, postal money order, bank draft, or cashier's check made payable in U.S. currency to “DOI-Bureau of Land Management” for an amount not less than 30 percent of the total amount of the bid. Personal checks will not be accepted.

The bid envelope also must contain a signed statement giving the total amount bid for the Parcel and the bidder's name, mailing address, and phone number. As provided in the regulations at 43 CFR 2711 .3-2(a)(1)(ii), bidders for Parcel 1 shall be designated by the BLM and limited to adjoining landowners. Bids for Parcel 1 submitted by persons or entities other than the designated bidders will he rejected.

Competitive Sale

Parcel 2 (COC-70841)

New Mexico Principal Meridian, Colorado, T. 40 N., R. 6 E., Sec. 19, lot 1.

The area described contains 38.43 acres. The appraised market value for Parcel 2 is $33,000. The parcel does not have legal public access, although County Road 15 lies approximately 440 feet from the boundary of the parcel. The only encumbrance of record is a right-of-way for a gas pipeline.

Offers to purchase Parcel 2 will be made by sealed bid only All bids must be received at the San Luis Valley Public Lands Center, 1803 West Highway 160, Monte Vista, Colorado 81144, not later than 4:30 p.m. MDT, July 1, 2008.

Sealed bids for Parcel 2 will be opened to determine the high bidder at 10 a.m. MDT, July 2, 2008, at the San Luis Valley Public Lands Center. The outside of each bid envelope must be clearly marked on the front lower left-hand corner with “SEALED BID,” Parcel Number, and bid opening date. Bids must be for not less than the appraised market value for the parcel. Each sealed bid shall be accompanied by a certified check, postal money order, bank draft, or cashier's check made payable in U.S. currency to “DOI-Bureau of Land Management” for an amount not less than 30 percent of the total amount of the bid. Personal checks will not be accepted.

The bid envelope also must contain a signed statement giving the total amount bid for the Parcel and the bidder's name, mailing address, and phone number.

Certification of bidder's qualifications must accompany the bid deposit. Evidence of authorization to bid for a corporation or other entity must be included.

Additional Terms and Conditions of Sale

Successful bidders will be allowed 90 days from the date of sale to submit the remainder of the full bid price. Failure to timely submit full payment for a parcel shall result in forfeiture of the bid deposit to the BLM, and the parcel will be offered to the second highest qualifying bidder at their original bid. If there are no other acceptable bids, the parcel may continue to be offered by sealed bid on the first Friday of each month at not less than the minimum bid until the offer is canceled.

By law, public lands may be conveyed only to (1) Citizens of the United States who are 18 years old or older, (2) a corporation subject to the laws of any State or of the United States, (3) an entity including, but not limited to, associations or partnerships capable of acquiring and owning real property, or interests therein, under the laws of the State of Colorado, or (4) a State, State instrumentality, or political subdivision authorized to hold real property.

The following reservations, rights, and conditions will be included in the patent that may be issued for the above parcels of federal land:

1. A reservation to the United States for a right-of-way for ditches and canals constructed by the authority of the United States Act of August 30, 1890 (43 U.S.C. 945).

2. Parcel 2 will be subject to a right-of-way for the valid existing right listed above.

No warranty of any kind, express or implied, is given by the United States as to the title, physical condition, or potential uses of the parcels proposed for sale.

Public Comments

Detailed information concerning the proposed land sales, including reservations, sale procedures, appraisals, planning and environmental documents, and mineral reports, is available for review at the San Luis Valley Public Lands Center, 1803 West Highway 160, Monte Vista, Colorado. Normal business hours are 8 a.m. to 4:30 p.m. MDT, Monday through Friday, except holidays.

The general public and interested parties may submit written comments regarding the proposed sales to the Center Manager, San Luis Valley Public Lands Center, not later than 45 days after publication of this Notice in the Federal Register. Comments received during this process, including respondent's name, address, and other contact information, will be available for public review. Individual respondents may request confidentiality. If you wish to request that BLM consider withholding your name, address, and other contact information (phone number, e-mail address, or fax number, etc.) from public review or disclosure under the Freedom of Information Act, you must state this prominently at the beginning of your comment. The BLM will honor requests for confidentiality on a case-by-case basis to the extent allowed by law. The BLM will make available for public review, in their entirety, all comments submitted by businesses or organizations, including comments by individuals in their capacity as an official or representative of a business or organization.

Any adverse comments will be reviewed by the BLM State Director, Colorado, who may sustain, vacate, or modify this realty action in whole or in part. In the absence of any adverse comments, this realty action will become the final determination of the Department of the Interior.

Dated: April 25, 2008.
Dan S. Dallas,
Center Manager, San Luis Valley Public Lands Center.

[FR Doc. E8-9554 Filed 5-1-08; 8:45 am]

BILLING CODE 4310-JB-P